DEPARTMENT OF ENERGY

Federal Energy Regulatory Commission

[Docket No. CP08-410-000; Docket No. CP02-74-000]

West Texas Gas, Inc.; Reef International, L.L.C.; Notice of Application To Transfer Natural Gas Act Section 3 Authorization and Presidential Permit

May 30, 2008.

On May 22, 2008, West Texas Gas, Inc. (West Texas) and Reef International, L.L.C. (Reef) filed a joint application in Docket No. CP08-410-000 pursuant to section 3 of the Natural Gas Act (NGA) and section 153 of the Commission's Regulations and Executive Order No. 10485, as amended by Executive Order No. 12038, and the Secretary of Energy's Delegation Order No. 00-004.00A, effective May 16, 2006, seeking authorization to transfer Reef's existing NGA section 3 authorization and Presidential Permit ¹ to West Texas, all as more fully set forth in the application which is on file with the Commission and open to the public for inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866)208-3676, or for TTY, contact (202)502-8659.

¹ 99 FERC ¶ 61,221 (2002)

Any questions regarding the application may be directed to: Richard D. Hatchett, 211 North Colorado, Midland, Texas 79701, or call (432) 682-4349 or e-mail rhatchett@westtexasgas.com.

Specifically, West Texas and Reef request the Commission to issue an order: (1) Transferring Reef's NGA section 3 authorization to West Texas for the operation and maintenance of facilities used to export natural gas at the International Border near Eagle Pass, Maverick County, Texas, to Coahuila, Mexico; and (2) authorizing the assignment of Reef's May 30, 2002, Presidential Permit for the operation and maintenance of facilities at the Coahuila, Mexico/Texas export point.

The export facilities consist of approximately 400 feet of 12-inch diameter pipeline extending from certain intrastate pipeline facilities in Texas to an interconnection with pipeline facilities owned by Compania National de Gas, S.A. (Conagas) in Coahuila, Mexico. West Texas would continue to operate and maintain these border crossing facilities in its own name rather than as Reef. West Texas and Reef state that no new facilities would be constructed.

West Texas and Reef state that the border facilities will remain in place and operation following the requested transfer and assignment. West Texas and Reef also state that the border crossing facilities would be used for transportation services subject to the jurisdiction of the Texas Railroad Commission.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the internet in lieu of paper. See 18 CFR 385.2001(a)(1)(iii) and the instructions on the Commission's Web site (http://www.ferc.gov) under the “e-Filing” link.

Comment Date: June 20, 2008.

Kimberly D. Bose,
Secretary.

[FR Doc. E8-12657 Filed 6-5-08; 8:45 am]

BILLING CODE 6717-01-P